DEPARTMENT OF THE INTERIOR

National Park Service

National Capital Region

ACTION: Notice/Request for Comments—The Lighting of the National Christmas Tree and the subsequent 27 day event.

SUMMARY: The National Park Service is seeking public comments and suggestions on the planning of the 2008 Lighting of the National Christmas Tree and the subsequent 27 day event.

SUPPLEMENTARY INFORMATION: The National Park Service is seeking public comments and suggestions on the planning of the 2008 Lighting of the National Christmas Tree and the subsequent 27 day event, which opens on December 4, 2008, on the Ellipse (President's Park), south of the White House. The meeting will be held at 9 a.m. on November 12, 2008 in Room 234 of the National Capital Region Headquarters Building, at 1100 Ohio Drive, SW., Washington, DC (East Potomac Park).

Persons who would like to comment at the meeting should notify the National Park Service by November 7, 2008 by calling the White House Visitor Center weekdays between 9 a.m., and 4 p.m., at (202) 208-1631. Written comments may be sent to the Park Manager, White House Visitor Center, 1100 Ohio Drive, SW., Washington, DC 20242, and will be accepted until November 12, 2008.

DATES: The meeting will be held on November 12, 2008. Written comments will be accepted until November 12, 2008.

ADDRESSES: The meeting will be held at 9:00 a.m. on November 12, 2008, in room 234 of the National Capital Region Headquarters Building, at 1100 Ohio Drive, SW., Washington, DC (East Potomac Park). Written comments may be sent to the Park Manager, White House Visitor Center, 1100 Ohio Drive, SW., Washington, DC 20242. Due to delays in mail delivery, it is recommended that comments be provided by telefax at 202-208-1643 or by e-mail to Scott_Tucker@nps.gov. Comments may also be delivered by messenger to the White House Visitor Center at 1450 Pennsylvania Avenue, NW., in Washington, DC.

FOR FURTHER INFORMATION CONTACT: Scott Tucker at the White House Visitor Center weekdays between 9 a.m., and 4 p.m., at (202) 208-1631.

Dated: September 18, 2008.
Maria Santo,
Acting Deputy National Park Service Liaison to the White House.

[FR Doc. E8-23773 Filed 10-7-08; 8:45 am]

BILLING CODE 4312-39-P